DEPARTMENT OF ENERGY

Federal Energy Regulatory Commission

Combined Notice of Filings

Take notice that the Commission has received the following Natural Gas Pipeline Rate and Refund Report filings:

Docket Numbers: RP19-1353-011.

Applicants: Northern Natural Gas Company.

Description: Compliance filing 20201014 Compliance Filing to be effective 1/1/2020.

Filed Date: 10/14/20.

Accession Number: 20201014-5105.

Comments Due: 5 p.m. ET 10/20/20.

Docket Numbers: RP21-55-000.

Applicants: Gulf South Pipeline Company, LLC.

Description: § 4(d) Rate Filing: Amendment to Neg Rate Agmt (Aethon United 52454) to be effective 10/14/2020.

Filed Date: 10/14/20.

Accession Number: 20201014-5017.

Comments Due: 5 p.m. ET 10/26/20.

Docket Numbers: RP21-56-000.

Applicants: Portland Natural Gas Transmission System.

Description: § 4(d) Rate Filing: Name Change for Eversource to be effective 11/14/2020.

Filed Date: 10/14/20.

Accession Number: 20201014-5050.

Comments Due: 5 p.m. ET 10/26/20.

Docket Numbers: RP21-57-000.

Applicants: Empire Pipeline, Inc.

Description: § 4(d) Rate Filing: Negotiated Rate FT Service Contract—Repsol to be effective 9/15/2020.

Filed Date: 10/14/20.

Accession Number: 20201014-5092.

Comments Due: 5 p.m. ET 10/26/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2020.
Nathaniel J. Davis, Sr.,
Deputy Secretary.

[FR Doc. 2020-23284 Filed 10-20-20; 8:45 am]

BILLING CODE 6717-01-P